DEPARTMENT OF ENERGY

Federal Energy Regulatory Commission

Combined Notice of Filings

Take notice that the Commission has received the following Natural Gas Pipeline Rate and Refund Report filings:

Docket Number: PR20-48-000.

Applicants: Bridgeline Holdings, L.P.

Description: Tariff filing per 284.123(b)(2) + (: SOC update 2020 to be effective 4/1/2020.

Filed Date: 4/1/2020.

Accession Number: 202004015199.

Comments/Protests Due: 5 p.m. ET 4/22/2020.

Docket Numbers: RP20-764-000.

Applicants: Panhandle Eastern Pipe Line Company, LP.

Description: § 4(d) Rate Filing: Negotiated Rates Filing on 4/2/20 to be effective 4/1/2020.

Filed Date: 4/2/20.

Accession Number: 20200402-5003.

Comments Due: 5 p.m. ET 4/14/20.

Docket Numbers: RP20-765-000.

Applicants: Rover Pipeline LLC.

Description: § 4(d) Rate Filing: Summary of Negotiated Rate Capacity Release Agreements on 4-2-20 to be effective 4/1/2020.

Filed Date: 4/2/20.

Accession Number: 20200402-5004.

Comments Due: 5 p.m. ET 4/14/20.

Docket Numbers: RP20-766-000.

Applicants: Transcontinental Gas Pipe Line Company, LLC.

Description: § 4(d) Rate Filing: List of Non-Conforming Service Agreements (LSE_Sequent) to be effective 5/3/2020.

Filed Date: 4/2/20.

Accession Number: 20200402-5073.

Comments Due: 5 p.m. ET 4/14/20.

Docket Numbers: RP20-768-000.

Applicants: Kern River Gas Transmission Company.

Description: § 4(d) Rate Filing: 2020 Pooling Revisions to be effective 5/4/2020.

Filed Date: 4/3/20.

Accession Number: 20200403-5038.

Comments Due: 5 p.m. ET 4/15/20.

Docket Numbers: RP20-769-000.

Applicants: Gulf South Pipeline Company, LLC.

Description: § 4(d) Rate Filing: Remove Expired Agreement eff 4-3-2020 to be effective 4/3/2020.

Filed Date: 4/3/20.

Accession Number: 20200403-5104.

Comments Due: 5 p.m. ET 4/15/20.

Docket Numbers: RP20-770-000.

Applicants: Texas Gas Transmission, LLC.

Description: § 4(d) Rate Filing: Remove Expired Agmts from the Tariff eff 4/3/2020 to be effective 4/3/2020.

Filed Date: 4/3/20.

Accession Number: 20200403-5106.

Comments Due: 5 p.m. ET 4/15/20.

Docket Numbers: RP20-771-000.

Applicants: Tennessee Gas Pipeline Company, L.L.C.

Description: § 4(d) Rate Filing: Filing Clean up to be effective 4/13/2020.

Filed Date: 4/3/20.

Accession Number: 20200403-5122.

Comments Due: 5 p.m. ET 4/15/20.

Docket Numbers: RP20-772-000.

Applicants: Equitrans, L.P.

Description: Compliance filing Notice Regarding Non-Jurisdictional Gathering Facilities (MID 22229).

Filed Date: 4/3/20.

Accession Number: 20200403-5145.

Comments Due: 5 p.m. ET 4/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2020.
Nathaniel J. Davis, Sr.,
Deputy Secretary.

[FR Doc. 2020-07578 Filed 4-9-20; 8:45 am]

BILLING CODE 6717-01-P